DEPARTMENT OF COMMERCE

International Trade Administration

[C-570-931]

Circular Welded Austenitic Stainless Pressure Pipe from the People's Republic of China: Correction to Countervailing Duty Order

AGENCY: Import Administration, International Trade Administration, Department of Commerce.

DATES: Effective Date: March 31, 2009.

FOR FURTHER INFORMATION CONTACT: Robert Copyak, AD/CVD Operations, Office 3, Import Administration, International Trade Administration, U.S. Department of Commerce, 14th Street and Constitution Avenue, NW., Room 4014, Washington, DC 20230; telephone: (202) 482-2209.

SUPPLEMENTARY INFORMATION:

Correction

On March 19, 2009, the Department of Commerce (“the Department”) published a notice of countervailing duty order on circular welded austenitic stainless pressure pipe from the People's Republic of China (“PRC”). See Circular Welded Austenitic Stainless Pressure Pipe from the People's Republic of China: Countervailing Duty Order, 74 FR 11712 (March 19, 2009) (“CVD Order”). Subsequent to the publication of the CVD Order in the Federal Register, we identified an inadvertent error.

The notice states that on March 11, 2009, the United States International Trade Commission (ITC) notified the Department of its final affirmative determination of material injury. This is a typographical error. The Department received the ITC's notification of its final affirmative determination of material injury on March 12, 2009.

This notice is published in accordance with sections 777(i) and 706(a) of the Tariff Act of 1930, as amended.

Dated: March 24, 2009.
Ronald K. Lorentzen,
Acting Assistant Secretary for Import Administration.

[FR Doc. E9-7230 Filed 3-30-09; 8:45 am]

BILLING CODE 3510-DS-P